DEPARTMENT OF TRANSPORTATION

Federal Aviation Administration

14 CFR Part 39

[Docket No. 2003-CE-68-AD]

RIN 2120-AA64

Airworthiness Directives; Przedsiebiorstwo Doswiadczalno-Produkcyjne Szybownictwa “PZL-Bielsko” Model SZD-50-3 “Puchacz” Sailplanes

AGENCY: Federal Aviation Administration (FAA), DOT.

ACTION: Notice of proposed rulemaking (NPRM).

SUMMARY: The FAA proposes to adopt a new airworthiness directive (AD) for all Przedsiebiorstwo Doswiadczalno-Produkcyjne Szybownictwa “PZL-Bielsko” (PZL-Bielsko) Model SZD-50-3 “Puchacz” sailplanes. This proposed AD would require you to repetitively inspect the front and back of the fuselage front bulkhead attachment fitting for cracks and replace the attachment fitting if any cracks are found. This proposed AD is the result of mandatory continuing airworthiness information (MCAI) issued by the airworthiness authority for Poland. We are issuing this proposed AD to detect and correct cracks in the fuselage front bulkhead attachment fitting, which could result in structural failure of the bulkhead. This failure could lead to loss of control of the sailplane.

DATES: We must receive any comments on this proposed AD by May 24, 2004.

ADDRESSES: Use one of the following to submit comments on this proposed AD:

• By mail: FAA, Central Region, Office of the Regional Counsel, Attention: Rules Docket No. 2003-CE-68-AD, 901 Locust, Room 506, Kansas City, Missouri 64106.

• By fax: (816) 329-3771.

• By e-mail: 9-ACE-7-Docket@faa.gov. Comments sent electronically must contain “Docket No. 2003-CE-68-AD” in the subject line. If you send comments electronically as attached electronic files, the files must be formatted in Microsoft Word 97 for Windows or ASCII.

You may get the service information identified in this proposed AD from Przedsiebiorstwo Doświadczalno-Produkcyjne Szybownictwa PZL-Bielsko, ul. Cieszyńska 325, 43-300 Bielsko-Biala: telephone: +48 033 812 50 21; facsimile: +48 033 812 37 39.

You may view the AD docket at FAA, Central Region, Office of the Regional Counsel, Attention: Rules Docket No. 2003-CE-68-AD, 901 Locust, Room 506, Kansas City, Missouri 64106. Office hours are 8 a.m. to 4 p.m., Monday through Friday, except Federal holidays.

FOR FURTHER INFORMATION CONTACT: Greg Davison, Aerospace Engineer, FAA, Small Airplane Directorate, 901 Locust, Room 301, Kansas City, Missouri 64106; telephone: (816) 329-4130; facsimile: (816) 329-4090.

SUPPLEMENTARY INFORMATION:

Comments Invited

How do I comment on this proposed AD? We invite you to submit any written relevant data, views, or arguments regarding this proposal. Send your comments to an address listed under ADDRESSES. Include “AD Docket No. 2003-CE-68-AD” in the subject line of your comments. If you want us to acknowledge receipt of your mailed comments, send us a self-addressed, stamped postcard with the docket number written on it. We will date-stamp your postcard and mail it back to you.

Are there any specific portions of this proposed AD I should pay attention to? We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Discussion

What events have caused this proposed AD? The General Inspectorate of Civil Aviation (GICA), which is the airworthiness authority for Poland recently notified FAA that an unsafe condition may exist on all PZL-Bielsko Model SZD-50-3 “Puchacz” sailplanes. The GICA reports that cracks were detected in the front bracket console mounted on the fuselage front bulkhead.

What are the consequences if the condition is not corrected? This condition, if not detected and corrected, could cause the fuselage front bulkhead to fail. Failure of the fuselage front bulkhead could result in loss of control of the sailplane.

Is there service information that applies to this subject? Przedsiebiorstwo Doświadczalno-Produkcyjne Szybownictwa PZL-Bielsko (PDPS “PZL-Bielsko”) has issued Mandatory Bulletin No. BE-048/SZD-50-3/2000 “Puchacz,” dated June 6, 2000, and Mandatory Bulletin No. BE-049/SZD-50-3/2000 “Puchacz,” dated September 14, 2000.

What are the provisions of this service information? These service bulletins include procedures for:

—Repetitively inspecting the front and back of the fuselage front bulkhead attachment fitting for cracks; and

—Replacing the attachment fitting on the fuselage front bulkhead if any cracks are found.

What action did the GICA take? The GICA classified these service bulletins as mandatory and issued Republic of Poland AD Number SP-0059-2000-A, dated June 5, 2000, and AD Number SP-0094-2000-A, dated September 18, 2000, to ensure the continued airworthiness of these sailplanes in Poland.

Did the GICA inform the United States under the bilateral airworthiness agreement? These PZL-Bielsko Model SZD-50-3 “Puchacz” sailplanes are manufactured in Poland and are type-certificated for operation in the United States under the provisions of section 21.29 of the Federal Aviation Regulations (14 CFR 21.29) and the applicable bilateral airworthiness agreement.

Under this bilateral airworthiness agreement, the GICA has kept us informed of the situation described above.

FAA's Determination and Requirements of This Proposed AD

What has FAA decided? We have examined the GICA's findings, reviewed all available information, and determined that AD action is necessary for products of this type design that are certificated for operation in the United States.

Since the unsafe condition described previously is likely to exist or develop on other PZL-Bielsko Model SZD-50-3 “Puchacz” sailplanes of the same type design that are registered in the United States, we are proposing AD action to detect and correct cracks in the fuselage front bulkhead, which could result in structural failure of the bulkhead. This failure could lead to loss of control of the sailplane.

Is there a modification I can incorporate instead of repetitively inspecting the front and back of the fuselage front bulkhead attachment fitting for cracks? The FAA has determined that long-term continued operational safety would be better assured by design changes that remove the source of the problem rather than by repetitive inspections or other special procedures. With this in mind, FAA will continue to work with PZL-Bielsko in performing further tests to determine the cause of the cracking and to provide a corrective action that would terminate the need for repetitive inspections.

What would this proposed AD require? This proposed AD would require you to incorporate the actions in the previously-referenced service bulletins.

What is the difference between this proposed AD and the service information? The manufacturer's service information allows continued flight if cracks are found in the fuselage front bulkhead attachment fitting that do not exceed certain limits. The applicable service bulletin specifies replacement of the fuselage front bulkhead attachment fitting only if cracks are found exceeding this limit. This proposed AD would not allow continued flight if any crack is found. FAA policy is to disallow airplane operation when known cracks exist in primary structure, unless the ability to sustain ultimate load with these cracks is proven. The fuselage front bulkhead is considered primary structure, and the FAA has not received any analysis to prove that ultimate load can be sustained with cracks in this area.

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many sailplanes would this proposed AD impact? We estimate that this proposed AD affects 8 sailplanes in the U.S. registry.

What would be the cost impact of this proposed AD on owners/operators of the affected sailplanes? We estimate the following costs to accomplish this proposed inspection:

Labor cost | Parts cost | Total cost per sailplane | Total cost on U.S. operators
2 workhours × $65 per hour = $130 | Not applicable | $130 | $130 × 8 = $1,040

We estimate the following costs to accomplish any necessary replacement that would be required based on the results of this proposed inspection. We have no way of determining the number of sailplanes that may need such a replacement:

Labor cost | Parts cost | Total cost per sailplane
10 workhours × $65 per hour = $650 | $680 | $650 + $680 = $1,330

Regulatory Findings

Would this proposed AD impact various entities? We have determined that this proposed AD would not have federalism implications under Executive Order 13132. This proposed AD would not have a substantial direct effect on the States, on the relationship between the national Government and the States, or on the distribution of power and responsibilities among the various levels of government.

Would this proposed AD involve a significant rule or regulatory action? For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD and placed it in the AD Docket. You may get a copy of this summary by sending a request to us at the address listed under ADDRESSES. Include “AD Docket No. 2003-CE-68-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Przedsiebiorstwo Doswiadczalno-Produkcyjne Szybownictwa “PZL-Bielsko”: Docket No. 2003-CE-68-AD

When Is the Last Date I Can Submit Comments on This Proposed AD?

(a) We must receive comments on this proposed airworthiness directive (AD) by May 24, 2004.

What Other ADs Are Affected by This Action?

(b) None.

What Sailplanes Are Affected by This AD?

(c) This AD affects Model SZD-50-3 “Puchacz” sailplanes, all serial numbers, that are certificated in any category.

What Is the Unsafe Condition Presented in This AD?

(d) This AD is the result of mandatory continuing airworthiness information (MCAI) issued by the airworthiness authority for Poland. We are issuing this proposed AD to detect and correct cracks in the fuselage front bulkhead attachment fitting, which could result in structural failure of the bulkhead. This failure could lead to loss of control of the sailplane.

What Must I Do To Address This Problem?

(e) To address this problem, you must do the following:

Actions | Compliance | Procedures
(1) Using a fluorescent dye-penetrant or dye-check method, inspect the front and back of the fuselage front bulkhead attachment fitting for cracks | Within the next 25 hours time-in-service (TIS) after the effective date of this AD. Repetitively inspect thereafter at intervals not to exceed 12 calendar months | Follow Przedsiebiorstwo Doświadczalno-Produkcyjne Szybownictwa PZL-Bielsko (PDPS “PZL-Bielsko”) Mandatory Bulletin No. BE-048/SZD-50-3/2000 “Puchacz”, dated June 6, 2000.
(2) If cracks are found during any inspection required in paragraph (e)(1) of this AD, replace the fuselage front bulkhead attachment fitting | Prior to further flight after any inspection required in paragraph (e)(1) of this AD in which cracks are found | Follow Przedsiebiorstwo Doświadczalno-Produkcyjne Szybownictwa PZL-Bielsko (SZD “PZL-Bielsko”) Mandatory Bulletin No. BE-049/SZD-50-3/2000 “Puchacz”, dated September 14, 2000.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Greg Davison, Aerospace Engineer, FAA, Small Airplane Directorate, 901 Locust, Room 301, Kansas City, Missouri 64106; telephone: (816) 329-4130; facsimile: (816) 329-4090.

May I Get Copies of the Documents Referenced in This AD?

(g) You may get copies of the documents referenced in this AD from Przedsiebiorstwo Doświadczalno-Produkcyjne Szybownictwa PZL-Bielsko, ul. Cieszyńska 325, 43-300 Bielsko-Biala: telephone: +48 033 812 50 21; facsimile: +48 033 812 37 39. You may view these documents at FAA, Central Region, Office of the Regional Counsel, 901 Locust, Room 506, Kansas City, Missouri 64106.

Is There Other Information That Relates to This Subject?

(h) Republic of Poland AD Number SP-0059-2000-A, dated June 5, 2000, and AD Number SP-0094-2000-A, dated September 18, 2000, also address the subject of this AD.

Issued in Kansas City, Missouri, on April 15, 2004.
James E. Jackson,
Acting Manager, Small Airplane Directorate, Aircraft Certification Service.

[FR Doc. 04-9018 Filed 4-20-04; 8:45 am]

BILLING CODE 4910-13-P